ENVIRONMENTAL PROTECTION AGENCY

[FRL-8698-5]

Environmental Laboratory Advisory Board (ELAB) Meeting Dates, and Agenda

AGENCY: Environmental Protection Agency (EPA).

ACTION: Notice of Teleconference Meetings.

SUMMARY: The Environmental Protection Agency's Environmental Laboratory Advisory Board (ELAB), as previously announced, will have teleconference meetings on August 20, 2008 at 1 p.m. ET; September 17, 2008 at 1 p.m. ET; October 15, 2008 at 1 p.m. ET; November 19, 2008 at 1 p.m. ET; and December 17, 2008 at 1 p.m. ET to discuss the ideas and views presented at the previous ELAB meetings, as well as new business. Items to be discussed by ELAB over these coming meetings include: (1) Expanding the number of laboratories seeking National Environmental Laboratory Accreditation Conference (NELAC) accreditation; (2) proficiency testing; (3) ELAB support to the Agency's Forum on Environmental Measurements (FEM); (4) implementing the performance approach; and (5) follow-up on some of ELAB's past recommendations and issues. In addition to these teleconferences, ELAB will be hosting their next face-to-face meeting on August 11, 2008 at the Hyatt Regency Washington on Capitol Hill in Washington, DC at 1:30 p.m. (ET).

Written comments on laboratory accreditation issues and/or environmental monitoring issues are encouraged and should be sent to Ms. Lara P. Autry, DFO, U.S. EPA (E243-05), 109 T. W. Alexander Drive, Research Triangle Park, NC 27709, faxed to (919) 541-4261, or e-mailed to autry.lara@epa.gov. Members of the public are invited to listen to the teleconference calls, and time permitting, will be allowed to comment on issues discussed during this and previous ELAB meetings. Those persons interested in attending should call Lara P. Autry at (919) 541-5544 to obtain teleconference information. The number of lines for the teleconferences, however, are limited and will be distributed on a first come, first serve basis. Preference will be given to a group wishing to attend over a request from an individual. For information on access or services for individuals with disabilities, please contact Lara P. Autry at the number above. To request accommodation of a disability, please contact Lara P. Autry, preferably at least 10 days prior to the meeting, to give EPA as much time as possible to process your request.

George M. Gray,
Science Advisor, Office of the Science Advisor.

[FR Doc. E8-17342 Filed 7-28-08; 8:45 am]

BILLING CODE 6560-50-P